DEPARTMENT OF EDUCATION

Application Deadline for Fiscal Year 2020; Small, Rural School Achievement Program

AGENCY: Office of Elementary and Secondary Education, Department of Education.

ACTION: Notice.

SUMMARY: Under the Small, Rural School Achievement (SRSA) program, Catalog of Federal Domestic Assistance (CDFA) number 84.358A, the U.S. Department of Education (Department) awards grants on a formula basis to eligible local educational agencies (LEAs) to address the unique needs of rural school districts. In this notice, we establish the deadline and describe the submission procedures for fiscal year (FY) 2020 SRSA grant applications. All LEAs eligible for FY 2020 SRSA funds must submit an application electronically via the process described in this notice by the deadline in this notice.

DATES:

Applications Available: February 3, 2020.

Deadline for Transmittal of Applications: April 17, 2020.

FOR FURTHER INFORMATION CONTACT: Mr. Robert Hitchcock, U.S. Department of Education, 400 Maryland Avenue SW, Room 3E-218, Washington, DC 20202. Telephone: (202) 260-1472. Email: reap@ed.gov.

If you use a telecommunications device for the deaf or a text telephone, call the Federal Relay Service, toll free, at 1-800-877-8339.

SUPPLEMENTARY INFORMATION:

I. Award Information

Type of Award: Formula grant.

Available Funds: The Administration has requested $90,420,000 for SRSA in FY 2020. The actual level of funding, if any, depends on final congressional action. However, we are inviting applications to allow enough time to complete the grant process if Congress appropriates funds for this program.

Estimated Range of Awards: $0-$60,000.

Note: Depending on the number of eligible LEAs identified in a given year and the amount appropriated by Congress for the program, some eligible LEAs may receive an SRSA allocation of $0 under the statutory funding formula.

Estimated Number of Awards: 4,000.

II. Program Authority and Eligibility Information

Under what statutory authority will FY 2020 SRSA grant awards be made?

The FY 2020 SRSA grant awards will be made under title V, part B, subpart 1 of the Elementary and Secondary Education Act of 1965, as amended (ESEA).

Which LEAs are eligible for an award under the SRSA program?

For FY 2020, an LEA (including a public charter school that meets the definition of LEA in section 8101(30) of the ESEA) is eligible for an award under the SRSA program if it meets one of the following criteria:

(a)(1) The total number of students in average daily attendance at all of the schools served by the LEA is fewer than 600; or each county in which a school served by the LEA is located has a total population density of fewer than 10 persons per square mile; and

(2) All of the schools served by the LEA are designated with a school locale code of 41, 42, or 43 by the Department's National Center for Education Statistics (NCES); or the Secretary has determined, based on a demonstration by the LEA and concurrence of the State educational agency, that the LEA is located in an area defined as rural by a governmental agency of the State; or

(b) The LEA is a member of an educational service agency (ESA) that does not receive SRSA funds, and the LEA meets the eligibility requirements described in (a)(1) and (2) above.

Note: The “Choice of Participation” provision under section 5225 of the ESEA gives LEAs eligible for both SRSA and the Rural and Low-Income School (RLIS) program authorized under title V, part B, subpart 2 of the ESEA the option to participate in either the SRSA program or the RLIS program. LEAs eligible for both SRSA and RLIS are henceforth referred to as “dual-eligible LEAs.”

Which eligible LEAs must submit an application to receive an FY 2020 SRSA grant award?

Under 34 CFR 75.104(a), the Secretary makes a grant only to an eligible entity that submits an application.

In FY 2020, all LEAs eligible to receive an SRSA award are required to submit an SRSA application in order to receive SRSA funds, regardless of whether the LEA received an award or submitted an application in any previous year. This includes dual-eligible LEAs that choose to participate in the SRSA program instead of the RLIS program, and SRSA-eligible LEAs that are members of ESAs that do not receive SRSA funds. In the case of SRSA-eligible LEAs that are members of SRSA-eligible ESAs, the respective LEAs and ESAs must coordinate directly with each other to determine which entity will submit an SRSA application, as both entities may not apply for or receive SRSA funds. Additionally, pursuant to section 5225 of the ESEA, dual-eligible LEAs that apply for SRSA funds in accordance with these application submission procedures will not be considered for an RLIS award.

We also note that a separate application must be submitted for each eligible LEA. For example, if a rural community has two distinct LEAs—one composed of its elementary school(s) and one composed of its high school(s)—each distinct LEA would have to submit its own SRSA application.

A list of LEAs eligible for FY 2020 SRSA grant funds is available on the Department's website at: https://oese.ed.gov/offices/office-of-formula-grants/rural-insular-native-achievement-programs/rural-education-achievement-program/small-rural-school-achievement-program/.

If an LEA on the Department's list of LEAs eligible to receive an FY 2020 SRSA award will close prior to the 2020-2021 school year, that LEA is no longer eligible to receive an FY 2020 SRSA award and should not apply.

An LEA eligible to receive FY 2020 SRSA funds that fails to submit an FY 2020 SRSA application in accordance with the application and submission information below is at risk of not receiving an FY 2020 SRSA award. Such an LEA may receive an award only to the extent funds become available after awards are made to all eligible LEAs that complied with the application procedures.

III. Application and Submission Information

Electronic Submission of Applications Using Max.gov

All LEAs eligible for FY 2020 SRSA grant funds will be sent an email with a uniquely identifiable application link on February 3, 2020. The email will include customized instructions for completing the electronic application via the Office of Management and Budget (OMB) Max Survey platform.

An eligible LEA must submit an electronic application via OMB Max Survey by April 17, 2020, to be assured of receiving an FY 2020 SRSA grant award. The Department may consider applications submitted after the deadline to the extent practicable and contingent upon the availability of funding.

Please note the following:

• We estimate that it will take 30 minutes to submit an application. However, we strongly recommend that you do not wait until the application deadline date to begin the application process.

• To better ensure applications are processed in a more timely, accurate, and efficient manner, if an LEA has not submitted an application by March 1, 2020, we will send the LEA a reminder email to submit its application.

• Applications received by OMB Max Survey are date and time stamped upon submission and applicants will receive a confirmation email after the application is submitted.

• Once your application is submitted via OMB Max Survey you must contact the REAP program staff at reap@ed.gov to update any information in your application if necessary.

Application Deadline Date Extension in Case of Technical Issues With OMB Max Survey

If you are unable to submit an application by April 17, 2020, because of problems with OMB Max Survey, contact the REAP program staff at reap@ed.gov within five business days and provide an explanation of the technical problem you experienced. We will accept your late application as having met the deadline if we can confirm that a technical problem occurred with the OMB Max Survey system and that the problem affected your ability to submit your application by the application deadline date. As noted above, if you submit your application after the deadine and the late submission is not due to a technical issue about which you have notified the REAP program staff, the Department may consider your application to the extent practicable and contingent upon the availability of funding.

IV. Other Procedural Requirements

System for Award Management

To do business with the Department, you must register in the System for Award Management (SAM), the Government's primary registrant database, using the following information:

a. Data Universal Numbering System (DUNS) number.

b. Legal business name.

c. Physical address from your Dun & Bradstreet (D&B) record.

d. Taxpayer identification number (TIN).

e. Taxpayer name associated with your TIN.

f. Bank information to set up Electronic Funds Transfer (EFT) (i.e., routing number, account number, and account type (checking/savings)).

Entities must have an active SAM registration throughout the grant performance period. You can obtain a DUNS number from Dun and Bradstreet at the following website: http://fedgov.dnb.com/webform. A DUNS number can be created within one to two business days.

If you are a corporate entity, agency (including an LEA), institution, or organization, you can find your taxpayer name and TIN in tax documents from the Internal Revenue Service (IRS) (such as a 1099 or W-2 form) or obtain one from the IRS.

The SAM registration process can take approximately seven business days, but may take upwards of several weeks, depending on the completeness and accuracy of the data you enter into the SAM database. Thus, if you think you might want to apply for Federal financial assistance under a program administered by the Department, please allow sufficient time to register with SAM. We strongly recommend that you register by June 1.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

V. Acessibility Information and Program Authority

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Program Authority: Sections 5211-5212 of the ESEA, 20 U.S.C. 7345-7345a.

Dated: January 21, 2020.
Frank T. Brogan,
Assistant Secretary, Office of Elementary and Secondary Education.

[FR Doc. 2020-01193 Filed 1-23-20; 8:45 am]

BILLING CODE 4000-01-P